DEPARTMENT OF TRANSPORTATION

Federal Aviation Administration

14 CFR Part 71

Proposed Amendment of Class C Airspace at Daytona Beach International Airport, FL; Public Meeting

AGENCY: Federal Aviation Administration (FAA), DOT.

ACTION: Notice of meeting.

SUMMARY: This notice announces a fact-finding informal airspace meeting regarding a plan to amend Class C airspace at Daytona Beach International Airport, FL (KDAB). The purpose of the meeting is to solicit aeronautical comments on the proposal's effects on local aviation operations. All comments received during the meeting, and the subsequent comment period, will be considered prior to the issuance of a notice of proposed rulemaking (NPRM).

DATES: The meeting will be held virtually on September 9, 2025, from 5:00 p.m. to 7:00 p.m. (Eastern Time). Comments must be received on or before October 9, 2025.

ADDRESSES: Comments: Send comments on the proposal to: Matthew Cathcart, Manager, Operations Support Group, Eastern Service Center, Air Traffic Organization, Federal Aviation Administration, 1701 Columbia Avenue, College Park, GA 30337; or via email to: 9-AJO-DAB-Class-C-Comments@faa.gov.

FOR FURTHER INFORMATION CONTACT: Daniel J. Deremer, Acting Air Traffic Manager, Daytona Beach Airport Traffic Control Tower, 2302 Bellevue Avenue, Daytona Beach, FL 32114. Telephone Number 386-226-3905, Email: Daniel.J.Deremer@faa.gov.

SUPPLEMENTARY INFORMATION:

Meeting Procedures

The meeting will provide interested parties an opportunity to present views, recommendations, and comments on the proposed airspace. This will be a virtual informal airspace meeting using the Zoom teleconferencing tool. The meeting will also be recorded and available to watch on the FAA YouTube channel.

(a) Registration: To attend the meeting, the public can register here: https://airportnetwork.zoom.us/webinar/register/WN_PtrHnNw6Ss6M0-cVm-mkhA.

(b) The meeting will be open to all persons on a space-available basis. There will be no admission fee or other charge to attend and participate. The meeting will be informal in nature and will be conducted by one or more representatives of the FAA Eastern Service Area. A representative from the FAA will present a briefing on the planned airspace modifications.

(c) Each participant will be given an opportunity to deliver comments or make a presentation, although a time limit may be imposed to accommodate closing times. Only comments concerning the plan to amend the Daytona Beach International Airport Class C airspace area will be accepted.

(d) Each person wishing to make a presentation will be asked to note their intent when registering for the meeting so those time frames can be established. This meeting will not be adjourned until everyone registered to speak has had an opportunity to address the panel. This meeting may be adjourned at any time if all persons present have had an opportunity to speak.

(e) Position papers or other handout material relating to the substance of the meeting will be accepted. Participants submitting papers or handout materials should send them to the mail or email address noted in the ADDRESSES section above. Such material must be received on or before the October 11, 2025, comment deadline noted in the DATES section above.

(f) This meeting will be formally recorded and available on the FAA YouTube channel. A summary of the comments made at the meeting will be filed in the rulemaking docket.

Information gathered through this meeting will assist the FAA in drafting an NPRM that would be published in the Federal Register. The public will be afforded the opportunity to comment on any NPRM published on this matter.

A graphic depiction of the proposed airspace modifications may be viewed at the following URL: www.faa.gov/go/daytonabeach.

Agenda for the Meeting

• Presentation of Meeting Procedures

• Informal Presentation of the proposed amendment to the Class C Airspace area

• Public Presentations

• Discussions and Questions

• Closing Comments

Authority: 49 U.S.C. 106(f), 106(g), 40103, 40113, 40120; E.O. 10854, 24 FR 9565, 3 CFR, 1959-1963 Comp., p. 389.

Issued in Washington, DC, on August 7, 2025.
Brian Eric Konie,
Acting Manager, Rules and Regulations Group.

[FR Doc. 2025-15212 Filed 8-7-25; 4:15 pm]

BILLING CODE 4910-13-P